DEPARTMENT OF HEALTH AND HUMAN SERVICES

Administration for Children and Families

[OMB #0970-0531]

Proposed Information Collection Activity; Formative Data Collections for ACF Program Support

AGENCY: Office of Planning, Research, and Evaluation, Administration for Children and Families, HHS.

ACTION: Request for public comment.

SUMMARY: The Administration for Children and Families (ACF) plans to submit a request to the Office of Management and Budget (OMB) to extend approval of the existing overarching generic clearance for Formative Data Collections for ACF Program Support (OMB #0970-0531; expiration date 7/31/2022). ACF proposes minor updates to the description of potential generic information collections under the overarching generic and to the estimated number of respondents.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION: Description: The goals of the generic information collections under this approval are to obtain information about program and grantee processes or needs and to inform the following types of activities, among others:

• Delivery of targeted assistance and/or workflows related to program and grantee processes. This could include the development and refinement of recordkeeping and communication systems.

• Planning for provision of programmatic or evaluation-related training or technical assistance (T/TA).

• Obtaining input on the development of program performance measures from grantees or others with experience or vested interest.

• Obtaining feedback about processes and/or practices to inform ACF program development or support, or ACF research.

• Use of rapid-cycle testing activities to strengthen programs in preparation for summative evaluations.

ACF uses a variety of techniques such as semi-structured discussions, focus groups, surveys, templates, open-ended requests, and telephone or in-person interviews in order to reach these goals.

Information collected under this overarching generic is meant to inform ACF activities and may be incorporated into documents or presentations that are made public such as through conference presentations, websites, or social media. The following are some examples of ways in which we may share information resulting from these data collections: Technical assistance plans, presentations, infographics, project specific reports, or other documents relevant to those involved with or interested in ACF programs such as federal leadership and staff, grantees, local implementing agencies, and/or T/TA providers.

Following standard OMB requirements, the Office of Planning, Research, and Evaluation will submit a change request for each individual data collection activity under this generic clearance. Each request will include the individual instrument(s), a justification specific to the individual information collection, and any supplementary documents. OMB should review requests within 10 days of submission.

The proposed types and the purpose of generic information collections submitted under this umbrella generic remain the same. Minor revisions are based on experiences over the past 3 years. These include:

• Updated burden estimates

• Broadened the description to make clearer the intention to broadly include respondents with knowledge, experience, or interest in ACF programs to allow ACF to learn about needs and processes related to ACF programs from those not necessarily funded by ACF

Respondents: Example respondents include current or prospective service providers, training or T/TA providers, grantees, contractors, current and potential participants in ACF programs or similar comparison groups, experts in fields pertaining to ACF programs, key groups involved in ACF projects and programs, individuals engaged in program re-design or demonstration development for evaluation, state or local government officials, or others involved in or prospectively involved in ACF programs.

Burden Estimates
Instrument | Number of respondents (total over request period) | Number of responses per respondent (total over request period) | Average burden per response (in hours) | Total burden (in hours)
Semi-Structured Discussions and Focus Groups | 10,000 | 1 | 2 | 20,000
Interviews | 4,500 | 1 | 1 | 4,500
Questionnaires/Surveys | 8,000 | 1.5 | .5 | 6,000
Templates and Open-ended Requests | 1,000 | 1 | 10 | 10,000

Estimated Total Annual Burden Hours: 40,500.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act, Sec 1110 [42 U.S.C. 1310].

Mary B. Jones,
ACF/OPRE Certifying Officer.

[FR Doc. 2022-01777 Filed 1-27-22; 8:45 am]

BILLING CODE 4184-79-P